DEPARTMENT OF LABOR

Veterans' Employment and Training Service

Agency Information Collection Activities; Comment Request: Jobs for Veterans State Grant Budget Information Summary; Jobs for Veterans State Grant Expenditure Detail Report; Jobs for Veterans State Grant Staffing Directory

AGENCY: Veterans' Employment and Training Service, Labor.

ACTION: Notice of availability; request for comments.

SUMMARY: VETS is announcing an opportunity for public comment on the proposed collection of certain information by the agency. Under the Paperwork Reduction Act (PRA) of 1995, Federal agencies are required to publish a notice in the Federal Register concerning each proposed collection of information and to allow 60 days for public comment in response to the notice. This notice solicits comments on four (4) separate collections of information: VETS 401 entitled Jobs for Veterans State Grant Budget Information Summary, VETS 402A or VETS 402B entitled Jobs for Veterans State Grant Expenditure Detail Report, VETS 403 entitled Jobs for Veterans State Grant Technical Performance Narrative, and VETS 501 entitled Jobs for Veterans State Grant Staffing Directory. The information collection contained in this notice is an extension with revisions. VETS is soliciting comments on the continuation of the approved information collections.

DATES: Consideration will be given to all written comments received by June 4, 2019.

ADDRESSES: A copy of this ICR with applicable supporting documentation, including a description of the likely respondents, proposed frequency of response, and estimated total burden, may be obtained for free by contacting Michael Long by telephone at (202) 693-4700 (not a toll-free number) or by email at Long.Michael.J@dol.gov.

Submit written comments about, or requests for a copy of, this ICR by mail or courier to the U.S. Department of Labor, Veterans' Employment and Training Service, Room S1325, 200 Constitution Avenue NW, Washington, DC 20210 or by email: Long.Michael.J@dol.gov.

FOR FURTHER INFORMATION CONTACT: Michael Long, by telephone at (202) 693-4700 (not a toll-free number) or by email at Long.Michael.J@dol.gov.

SUPPLEMENTARY INFORMATION: The Department of Labor, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The Department of Labor's VETS administers funds for the Jobs for Veterans State Grant (JVSG) to each State, the District of Columbia, Puerto Rico and the Virgin Islands on an annual fiscal year basis. These non-competitive, formula-driven grants are codified under Title 38, United States Code, (38 U.S.C.) Section 4102A(b)(5):

“Subject to subsection (c) make available for use in each State by grant or contract such funds as may be necessary to support—(A) disabled veterans' outreach program specialists appointed under section 4103A(a)(1) of this title, (B) local veterans' employment representatives assigned under section 4104(b) of this title, and (C) the reasonable expenses of such specialists and representatives described in subparagraphs (A) and (B), respectively, for training, travel, supplies, and other business expenses . . .”

VETS provides funds to States in accordance with an allocation formula required by 38 U.S.C. 4102A(c)(2)(B) and as published in regulation at Title 20, Part 1001, Subpart F of the Code of Federal Regulations (CFR). The Assistant Secretary for Veterans' Employment and Training monitors and supervises the distribution and use of those funds as required by 38 U.S.C. 4102A(b)(6). Additionally, and in accordance with 38 U.S.C. 4107(b), the Secretary reviews performance and provides an annual report to Congress that includes:

A characterization of the quality and character of priority of services provided to veterans (38 U.S.C. 4215 and 20 CFR 1010.320, 1010.330);

Efforts to coordinate with the Veterans Administration in accordance with 38 U.S.C. 4102A(b)(3) and 4109; and

Incentive fund usage as described in 38 U.S.C. 4112.

VETS is requesting continued approval for the information collection that streamlines the annual funding request process for grantees, reports the use of grantee funds in sufficient detail to allow interim adjustments that ensure all appropriated funding is expended properly, and provides data needed for VETS' Annual Report to Congress.

The forms and reports collect required programmatic and financial data from States requesting and obligating grant funds. The continued use of standardized formats for collecting this information helps to ensure that requested data is provided in a uniform way, reporting burdens are minimized, the impact of collection requirements on respondents are properly assessed, collection instruments are clearly understood by respondents, and the information is easily consolidated for posting in accordance with statutory requirements.

With respect to the continuation of the approved collection of information, VETS is particularly interested in comments on these topics:

(1) Whether the continued collection of information is necessary for the proper performance and oversight of the Jobs for Veterans State Grant, including whether the information will have practical utility;

(2) The accuracy of the VETS' estimate of the burden of the proposed collection of information;

(3) Ways to enhance the quality, utility, and clarity of the information to be collected; and

(4) Ways to minimize the burden of the collection of information on respondents, including through the use of automated collection techniques, when appropriate and other forms of information technology.

Agency: Veterans' Employment and Training Service, U.S. Department of Labor.

Type of Review: Revision.

Title of Collection: VETS' Jobs for Veterans State Grant Program Reporting.

Forms:

1. VETS-401, JVSG Budget Information Summary; and

2. VETS-402A; or

3. VETS-402B JVSG Expenditure Detail Report (EDR); and

4. VETS-501, JVSG Staffing Directory; and

5. VETS-403, JVSG Technical Performance Narrative (TPN)

OMB Control Number: 1293-0009.

Affected Public: State, Local and Tribal Governments.

Estimated Number of Respondents: 54.

Frequency: On occasion.

Total Estimated Annual Responses: 540.

Estimated Total Annual Burden Hours: 1,053.

Total Estimated Annual Other Cost Burden: $0.

Authority: 44 U.S.C. 3506(c)(2)(A).

Dated: Signed in Washington, DC, this 1st day of April, 2019.
Joseph S. Shellenberger,
Deputy Assistant Secretary for Veterans' Employment and Training Service.

[FR Doc. 2019-06659 Filed 4-4-19; 8:45 am]

BILLING CODE 4510-79-P